DEPARTMENT OF LABOR

Occupational Safety and Health Administration

Federal Advisory Council on Occupational Safety and Health: Notice of Meeting

Notice is hereby given of the date and location of the next meeting of the Federal Advisory Council on Occupational Safety and Health (FACOSH), established under Section 1-5 of Executive Order 12196 on February 6, 1980, published in the Federal Register, February 27, 1980 (45 FR 1279).

FACOSH will meet on October 29, 2003 starting at 1:30 p.m., in Room N-3437 A/B/C of the Department of Labor Frances Perkins Building, 200 Constitution Avenue, NW., Washington, DC 20210. The meeting will adjourn at approximately 4:30 p.m., and will be open to the public. All persons wishing to attend this meeting must exhibit photo identification to security personnel upon entering the building.

Agenda items will include:

1. Call to Order

2. Old Business

• Update on Federal Recordkeeping proposed change

• SHARE '04 Initiative

• Report on 58th Annual Federal Safety and Health Awards Ceremony and Training

• Young Workers Initiative

3. New Business

• Emergency Preparedness for Employees with Disabilities

4. Adjournment

Written data, views, or comments may be submitted, preferably with 20 copies, to the Office of Federal Agency Programs at the address provided below. All such submissions received by October 22, 2003 will be provided to the Federal Advisory Council members and will be included in the meeting record. Anyone wishing to make an oral presentation should notify the Office of Federal Agency Programs by the close of business on October 24, 2003. The request should state the amount of time desired, the capacity in which the person will appear, and a brief outline of the content of the presentation. Persons who request the opportunity to address the Federal Advisory Council may be allowed to speak, as time permits, at the discretion of the Chairperson. Individuals with disabilities who need special accommodations and wish to attend the meeting should contact Thomas Marple at the address indicated below.

For additional information, please contact Thomas K. Marple, Director, Director Office of Federal Agency Programs, U.S. Department of Labor, Occupational Safety and Health Administration, Room N-3622, 200 Constitution Avenue, NW., Washington, DC 20210, telephone number (202) 693-2122. An official record of the meeting will be available for public inspection at the Office of Federal Agency Programs.

Signed at Washington, DC, this 7th day of October 2003.
John L. Henshaw,
Assistant Secretary of Labor for Occupational Safety and Health.

[FR Doc. 03-25907 Filed 10-10-03; 8:45 am]

BILLING CODE 4510-26-P